NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 11, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001, E-mail: records.mgt@nara.gov, FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Foreign Agricultural Service (N1-166-02-1, 8 items, 8 temporary items). Records relating to dairy and sugar commodities imported into the United States. Included are such records as license applications, importer case files, reports used to monitor dairy imports, and correspondence and background information relating to countries under the U.S. sugar tariff rate quota. Also included are electronic copies of documents created using electronic mail and word processing.

2. Department of Commerce, National Oceanic and Atmospheric Administration (N1-370-04-3, 66 items, 64 temporary items). Paper and electronic records accumulated by the National Weather Service, including files relating to such matters as product and service dissemination, water, weather, and climate prediction and verification models, sensors and equipment systems, configuration management, water, weather, and climate summaries, the compilation of maps and analyses used for official forecasts, forecasts and observations, facilitative aspects of the agency's modernization initiative, and equipment engineering specifications. Also included are electronic copies of records created using electronic mail and word processing. Proposed for permanent retention are recordkeeping copies of records relating to the overall management of the agency's modernization initiative and the closure of offices where closure was contested.

3. Department of Commerce, Bureau of the Census (N1-29-05-1, 1 item, 1 temporary item). Completed questionnaires accumulated in connection with a 2004 overseas enumeration test and non-aggregated respondent data obtained from those questionnaires.

4. Department of Defense, National Geospatial-Intelligence Agency (N1-537-03-5, 11 items, 10 temporary items). Geospatial contract specification files, map and chart correction records, and geospatial specification and symbols files accumulated by offices that do not have functional program responsibility. Also included are electronic copies of records created using electronic mail and word processing. Recordkeeping copies of geospatial specifications and symbols accumulated by the office assigned functional program responsibility are proposed for permanent retention. This schedule authorizes the agency to apply the proposed disposition instructions to any recordkeeping medium.

5. Department of the Interior, Office of the Secretary (N1-48-05-1, 4 items, 4 temporary items). Copies of records provided to the Independent Counsel investigating a dog track in Hudson, Wisconsin. Records include paper copies of documents, digital images, and an electronic index. Also included are electronic copies of documents created using electronic mail and word processing.

6. Department of Justice, Bureau of Alcohol, Tobacco, Firearms, and Explosives (N1-436-05-3, 3 items, 3 temporary items). Incident reports files containing information or allegations which are of an investigative nature but do not relate to a specific investigation. Also included are electronic copies of documents created using electronic mail and word processing.

7. Department of Transportation, Bureau of Transportation Statistics (N1-570-04-30, 4 items, 3 temporary items). Records relating to unpublished regulations, standards, and guidelines. Included are such records as draft versions of proposed regulations and guidelines, public and internal comments, hearing transcripts, meeting minutes, and other background material. Also included are electronic copies of records created using electronic mail and word processing. Proposed for permanent retention are recordkeeping copies of files relating to published regulations, standards, and guidelines. This schedule authorizes the agency to apply the proposed disposition instructions to any recordkeeping medium.

8. Department of Transportation, Bureau of Transportation Statistics (N1-570-04-31, 4 items, 3 temporary items). Records of rulemaking committees relating to unpublished rules and regulations, including meeting notes, organizing charters, reports, and correspondence. Also included are electronic copies of records created using electronic mail and word processing. Proposed for permanent retention are recordkeeping copies of files relating to published rules and regulations. This schedule authorizes the agency to apply the proposed disposition instructions to any recordkeeping medium.

9. Department of Transportation, Bureau of Transportation Statistics (N1-570-04-32, 5 items, 4 temporary items). Records relating to the ongoing management of programs and routine projects within programs. Included are such records as correspondence, memorandums, agendas, background papers, speeches, and oversight reviews. Also included are electronic copies of records created using electronic mail and word processing. Recordkeeping copies of program management records held by the Director are proposed for permanent retention. This schedule authorizes the agency to apply the proposed disposition instructions to any recordkeeping medium.

10. Department of the Treasury, Financial Management Service (N1-425-05-1, 37 items, 36 temporary items). Records of the Administrative Programs Division relating to such matters as health and safety programs, records management, supply and property management, and facilities management. Records include project files, studies, correspondence, and reports. Also included are electronic copies of records created using electronic mail and word processing. Proposed for permanent are recordkeeping copies of “Fiscal Scene,” a publication produced by the agency.

11. Department of the Treasury, Financial Crimes Enforcement Network (N1-559-05-1, 34 items, 34 temporary items). Records relating to the agency's mission of providing Government-wide support for the detection, investigation, and prosecution of money laundering and other financial crimes. Included are such records as intelligence report case files and related electronic tracking systems, working papers, inspection reports, Web site content and Web site management records, and records relating to presentations and briefings about the agency. Also included are electronic copies of records created using electronic mail and word processing. This schedule authorizes the agency to apply the proposed disposition instructions to any recordkeeping medium.

12. Environmental Protection Agency, Office of Prevention, Pesticides, and Toxic Substances (N1-412-05-6, 2 items, 2 temporary items). Chemical review case files consisting of reviews of chemical compounds used to support risk assessments, benefit assessments, and regulatory actions. Electronic copies of records created using word processing and electronic mail are also included.

13. National Archives and Records Administration, Office of Human Resources and Information Services (N1-64-05-4, 4 items, 4 temporary items). Files relating to inappropriate Internet use, including reports identifying employees suspected of such activities. Also included are electronic copies of records created using electronic mail and word processing.

14. Social Security Administration, Office of the Inspector General (N1-47-04-2, 32 items, 29 temporary items). Audit files and related tracking databases, investigative files and allegations and related tracking databases, monetary penalty files, routine correspondence, budget files, procedures manuals, administrative files, and training records. Also included are electronic copies of records created using electronic mail and word processing. Proposed for permanent retention are recordkeeping copies of such records as annual and semiannual reports to Congress, strategic plans, and files relating to the establishment of the office.

15. Social Security Administration, Office of Disability and Income Security Programs (N1-47-05-1, 70 items, 70 temporary items). Claims files and other records accumulated pursuant to Title III, Title XVI, and Title XVIII, parts A and B, of the Social Security Act. Also included are electronic copies of records created using electronic mail and word processing. This schedule authorizes the agency to apply the proposed disposition instructions to any recordkeeping medium.

Dated: February 18, 2005.
Michael J. Kurtz,
Assistant Archivist for Records Services—Washington, DC.

[FR Doc. 05-3618 Filed 2-24-05; 8:45 am]

BILLING CODE 7515-01-P